DEPARTMENT OF THE INTERIOR

Bureau of Indian Affairs

Proposed Information Collection

AGENCY: Bureau of Indian Affairs, Interior.

ACTION: Notice of request for comments.

SUMMARY: In compliance with the Paperwork Reduction Act of 1995, this notice announces that we are seeking comments from interested parties to renew the clearance for Application for Training or Employment, OMB No. 1076-0062.

DATES: Written comments must be received by January 6, 2004.

ADDRESSES: Written comments should be sent to: Lynn Forcia, Office of Self-Governance and Self-Determination, Department of the Interior, 1849 C Street, NW., Mail Stop 2412-MIB, Washington, DC 20240.

FOR FURTHER INFORMATION: For additional information or copies of the forms, call Lynn Forcia, Office of Self-Governance and Self-Determination, Department of the Interior, 1849 C Street NW., MS 2412-MIB, Washington, DC 20240 and (202) 219-5270 (This is not a toll-free number). You may send requests by facsimile to (202) 208-3664.

SUPPLEMENTARY INFORMATION: Pub.L. 84-959 and Pub.L. 88-230 authorize the Secretary of the Interior, to help adult Indians who reside on or near Indian reservations to obtain reasonable and satisfactory employment. The information collection documents provide information necessary to administer the program for Employment Assistance or Vocational Training. The Secretary is authorized to undertake a program of vocational training that provides vocational counseling, guidance, and training in any recognized vocation, apprenticeship, trade, or on-the-job training. The program is available to Indians who are not less than 18 years old and not more than 35 years old who reside on or near an Indian reservation. The acts authorize the Secretary to enter into contracts or agreements with Federal, State, local government agencies or associations with apprenticeship programs or on-the-job training that leads to skilled employment. The same application form is used for both 25 CFR parts 26 and 27. Information of a confidential nature is protected by the Privacy Act.

You are asked to comment on the necessity of the information collection to fulfill the functions of the bureau; whether the burden estimate is accurate and the methodology and assumptions are valid; the utility, quality, and clarity of information requested; and ways that the burden might be minimized for respondents. All comments are subject to review by the public during regular business hours. If you wish your name or address withheld, you must state this prominently at the beginning of your comments. We will honor your request to the extent allowed by the law. Individuals who represent businesses or companies will have comments available for review by the public. In some cases we may decide to withhold comments from review for good reason.

Please note that an agency may not sponsor or conduct, and a person need not respond to, an information collection unless a currently valid OMB Control Number is displayed.

Title: Application for Training or Employment Assistance 25 CFR 26 & 27.

OMB Control Number: 1076-0062.

Description of Respondents: Individual Indians living on or near a reservation who seek training or employment provide the information in order to receive a benefit.

Respondents: 4900.

Burden: 30 minutes to complete.

Total Annual Hourly Burden: 2450 hours.

Dated: October 27, 2003.
Aurene M. Martin,
Principal Deputy Assistant Secretary—Indian Affairs.

[FR Doc. 03-28004 Filed 11-6-03; 8:45 am]

BILLING CODE 4310-04-P